DEPARTMENT OF ENERGY

Federal Energy Regulatory Commission

[Docket No. RP01-416-001]

Northwest Pipeline Corporation; Notice of Compliance Filing

July 2, 2003.

Take notice that on June 27, 2003, Northwest Pipeline Corporation (Northwest) tendered for filing as part of its FERC Gas Tariff, Third Revised Volume No. 1, Fourth Revised Sheet No. 254; Fifth Revised Sheet No. 255; Fifth Revised Sheet No. 256; and Fourth Revised Sheet No. 257, to be effective July 28, 2003.

Northwest states that this filing complies with the Commission's order dated June 9, 2003 in Docket No. RP01-416-000 by revising a conditionally accepted tariff provision to also provide a mechanism for sharing the costs of laterals when a shipper has elected the lump sum payment method.

Northwest states that a copy of this filing has been served upon each person designated on the official service list complied by the Secretary in this proceeding.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 9, 2003.

Magalie R. Salas,
Secretary.

[FR Doc. 03-18938 Filed 7-24-03; 8:45 am]

BILLING CODE 6717-01-P